DEPARTMENT OF COMMERCE

National Telecommunications and Information Administration

Agency Information Collection Activities; Submission to the Office of Management and Budget (OMB) for Review and Approval; Comment Request; NTIA Internet Use Survey

AGENCY: National Telecommunications and Information Administration (NTIA), U.S. Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 18, 2025.

ADDRESSES: Interested persons are invited to submit written comments by mail to Christopher Quarles, Policy Advisor, NTIA, 1401 Constitution Avenue NW, Suite 4725, Washington, DC 20230, or via email at cquarles@ntia.gov. Please reference OMB Control Number 0660-0021 in the subject line of your comments. Do not submit Confidential Business Information or otherwise sensitive or protected information.

FOR FURTHER INFORMATION CONTACT: Requests for additional information or specific questions related to collection activities should be directed to Christopher Quarles, Policy Advisor, NTIA, 1401 Constitution Avenue NW, Suite 4725, Washington, DC 20230, at (202) 941-0606 or cquarles@ntia.gov.

SUPPLEMENTARY INFORMATION:

I. Abstract

NTIA seeks approval under the Paperwork Reduction Act (PRA) to add 61 questions to the November 2025 edition of the U.S. Census Bureau's Current Population Survey (CPS). This collection of questions is known as the NTIA internet Use Survey and is also referred to as the CPS Computer and internet Use Supplement. NTIA has sponsored seventeen such surveys since 1994.

The internet is of immense importance to the nation's economic prosperity; as a result, policymakers, businesses, non-profits, communities, and other stakeholders rely on data about whether and how Americans use the internet to help shape their activities. Digitally connected Americans populate the modern workforce, drive creative innovation throughout the economy, and ensure a growing customer base to help sustain our nation's global competitiveness. Data from the NTIA internet Use Survey will inform policies aimed at broadband usage.

NTIA is working with Congress, the Federal Communications Commission (FCC), other federal agencies, state and local governments, industry, and nonprofits to develop and promote policies that foster ubiquitous deployment and effective use of high-speed internet technologies. Collecting current, systematic, and comprehensive information on internet use and non-use by U.S. households is critical to enabling policymakers to gauge progress made to date and identify specific areas of concern that permit carefully targeted and cost-effective responses.

The U.S. Census Bureau is widely regarded as a premier data collector based on centuries of experience and rigorous scientific methods. Collection of NTIA's requested internet usage data will occur in conjunction with a future edition of the U.S. Census Bureau's CPS, thereby significantly reducing the potential burdens on the U.S. Census Bureau and on surveyed households.

The U.S. government has a need for comprehensive data in this area. The U.S. Government Accountability Office (GAO), NTIA, and the FCC have issued reports noting the importance of useful broadband data for policymakers. Moreover, Congress has passed legislation—including the Broadband Data Improvement Act, the American Recovery and Reinvestment Act, the Broadband DATA Act, the Consolidated Appropriations Act, 2021, and the Infrastructure Investment and Jobs Act—wholly or in part to facilitate data collection, research, and policy analysis in this area. Modifying the CPS to include NTIA's requested internet use questions will enable the Commerce Department and NTIA to respond to congressional concerns and directives.

NTIA has made a copy of the proposed information collection instrument available at https://www.ntia.gov/federal-register-notice/2025/2025-internet-use-survey-information-collection.

II. Method of Collection

The NTIA Internet Use Survey will be administered by the U.S. Census Bureau as a supplement to the CPS. Data will be collected through personal visits and live telephone interviews using computer-assisted telephone interviewing and computer-assisted personal interviewing.

III. Data

OMB Control Number: 0660-0021.

Form Number(s): None.

Type of Review: Regular submission; Revision of a current information collection.

Affected Public: Individuals and households.

Estimated Number of Respondents: 50,000 households.

Estimated Time per Response: 10 minutes.

Estimated Total Annual Burden Hours: 8,334 hours.

Estimated Total Annual Cost to Public: $0.

Respondent's Obligation: Voluntary.

Legal Authority: 47 U.S.C. 902(b)(2)(M), (P).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including via the use of automated collection techniques or other forms of information technology.

Comments that you submit in response to this notice are a matter of public record. We will include or summarize each comment in our request to OMB to approve this ICR. Before including your address, phone number, email address, or other personal identifying information in your comment, you should be aware that your entire comment, including any personal identifying information that you include—may be made publicly available at any time. While you may ask us in your comment to withhold your personal identifying information from public review, we cannot guarantee that we will be able to do so.

Sheleen Dumas,
Departmental PRA Compliance Officer, Office of the Under Secretary for Economic Affairs, Commerce Department.

[FR Doc. 2025-11114 Filed 6-16-25; 8:45 am]

BILLING CODE 3510-60-P